SMALL BUSINESS ADMINISTRATION

Interagency Task Force on Veterans Small Business Development; Notice of Meeting

AGENCY: Small Business Administration.

ACTION: Notice of open Federal Interagency Task Force Meeting.

SUMMARY: The SBA is issuing this notice to announce the location, date, time, and agenda for its public meeting of the Interagency Task Force on Veterans Small Business Development. The meeting will be open to the public.

DATES: Thursday, March 20, 2014, from 9:00 a.m. to 12:00 p.m.

ADDRESSES: SBA 409 3rd Street NW., Washington, DC 20419.

Room: Eisenhower Conference Room B, located on the Concourse Level.

SUPPLEMENTARY INFORMATION: Pursuant to section 10(a)(2) of the Federal Advisory Committee Act (5 U.S.C., Appendix 2), SBA announces the meeting of the Interagency Task Force on Veterans Small Business Development. The Task Force is established pursuant to Executive Order 13540 and focused on coordinating the efforts of Federal agencies to improve capital, business development opportunities and pre-established Federal contracting goals for small business concerns owned and controlled by veterans (VOB's) and service-disabled veterans (SDVOSB'S). Moreover, the Task Force shall coordinate administrative and regulatory activities and develop proposals relating to “three focus areas”: (1) Training, Counseling & Capital; (2) Federal Contracting & Verification; (3) Improved Federal Support on November 1, 2011, the Interagency Task Force on Veterans Small Business Development submitted its first report to the President, which included 18 Recommendations. In addition, the Task Force will allow time to obtain public comment from individuals and representatives of organizations regarding the areas of focus.

FOR FURTHER INFORMATION CONTACT: The meeting is open to the public, however, advance notice of attendance is requested. Anyone wishing to attend and/or make a presentation to the Task Force must contact Barbara Carson, by February 28, 2014 by email in order to be placed on the agenda. Comments for the Record should be applicable to the “three focus areas” of the Task Force and emailed prior to the meeting for inclusion in the public record, verbal presentations; however, will be limited to five minutes in the interest of time and to accommodate as many presenters as possible. Written comments should be emailed to Barbara Carson, Designated Federal Officer Office of Veterans Business Development, U.S. Small Business Administration, 409 3rd Street SW., Washington, DC 20416, at the email address for the Task Force, vetstaskforce@sba.gov . Additionally, if you need accommodations because of a disability or require additional information, please contact Barbara Carson, Designated Federal Official for the Task Force at (202) 205-6773; or by email at: barbara.carson@sba.gov. For more information, please visit our Web site at www.sba.gov/vets.

Dated: February 21, 2014.
Diana Doukas,
SBA Committee Management Officer.

[FR Doc. 2014-04580 Filed 3-6-14; 8:45 am]

BILLING CODE 8025-01-P